EQUAL EMPLOYMENT OPPORTUNITY COMMISSION

Commission Meeting

Agency Holding the Meeting: Equal Employment Opportunity Commission.

Date and Time: Wednesday, June 17, 2009, 10 a.m. Eastern Time.

Place: Commission Meeting Room on the First Floor of the EEOC Office Building, 131 M Street, NE., Washington, DC 20507.

Status: The meeting will be open to the public.

Matters To Be Considered:

Open Session:

1. Announcement of Notation Votes, and

2. Notice of Proposed Rulemaking for the Americans with Disabilities Act (ADA)Amendments Act of 2008.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. The EEOC provides sign language interpretation at Commission meetings for the hearing impaired. Requests for other reasonable accommodations may be made by using the voice and TTY numbers listed above. Contact Person for More Information: Stephen Llewellyn, Executive Officer on (202) 663-4070.

Dated: June 8, 2009.
Stephen Llewellyn,
Executive Officer, Executive Secretariat.

[FR Doc. E9-13822 Filed 6-11-09; 8:45 am]

BILLING CODE 6570-01-P